DEPARTMENT OF HOUSING AND URBAN DEVELOPMENT

[Docket No.FR-4734-N-73]

Notice of Submission of Proposed Information Collection to OMB: Customer-Survey of Households Living in Federally Assisted Units

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: January 16, 2003.

ADDRESSES: Interested persons are invited to submit comments regarding this proposal. Comments should refer to the proposal by name and/or OMB approval number (2528-0170) and should be sent to: Lauren Wittenberg, OMB Desk Officer, Office of Management and Budget, Room 10235, New Executive Office Building, Washington, DC 20503; Fax number (202) 395-6974; E-mail Lauren_Wittenberg@omb.eop.gov.

FOR FURTHER INFORMATION CONTACT: Wayne Eddins, Reports Management Officer, AYO, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. chapter 35). The notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This notice also lists the following information:

Title of Proposal: Customer-Survey of Households Living in Federally Assisted Units.

OMB Approval Number: 2528-0170.

Form Numbers: None.

Description of the Need for the Information and its Proposed Use: This survey provides HUD feedback to help local housing agencies improve their Section 8 programs. Additionally, it provides HUD's policy, program, and budget managers with improved measures for tracking national housing conditions over time.

No changes in the Survey are contemplated, except for the following minor improvements:

1. Respondents who live in apartments are asked: “How many apartments in your building?”

They are provided the following response options: 2-4 4-8 8 or more.

The first two options have typos and will be corrected to read: 2-3 4-7 8 or more.

2. Respondents are provided a telephone hotline number to use if they have concerns or questions. One type of feedback at the hotline indicated that some did not understand the term “screening.”

The question “The landlord does a good job screening tenants” will be replaced with “Most tenants here are acceptable as neighbors.”

The two questions “If you have been in this apartment for more than one year, describe how things have changed* * *Landlord's screening of new tenants?” and “If you have been in this apartment for more than one year, describe how things have changed* * *Amount of crime around your homes?” will be eliminated.

3. The following questions will be added to the “Neighborhood” section of the questionnaire:

A. Travel by bus to grocery shopping and jobs.

Response options:

Not a problem, some problem, big problem, no bus service in this town.

B. Travel by car to grocery shopping and jobs.

Response options:

Not a problem, some problem, big problem, no car.

Lack of transportation is known to be a barrier to deconcentration of poverty and employment. We do not know, however, the extent to which this problem confronts households assisted by the HVC program. The replacement items are intended provide pertinent data.

Respondents: Individuals or households.

Frequency of Submission: Less than annually.

| Number of respondents | Annual responses | × | Hours per response | = | Burden hours
Reporting Burden | 267,000 | 0.70 |  | 0.22 |  | 41,385

Total Estimated Burden Hours: 41,385.

Status: Revision of a currently approved collection.

Authority: Section 3507 of the Paperwork Reduction Act of 1995, 44 U.S.C. 35, as amended.

Dated: December 10, 2002.
Wayne Eddins,
Departmental Reports Management Officer, Office of the Chief Information Officer.

[FR Doc. 02-31702 Filed 12-16-02; 8:45 am]

BILLING CODE 4210-72-P